ENVIRONMENTAL PROTECTION AGENCY

[CT-057-7216f; A-1-FRL-7611-8]

Adequacy Status of Motor Vehicle Budgets in Submitted State Implementation Plan for Transportation Conformity Purposes; Connecticut; Revised Attainment Plan for the Connecticut Portion of the New York-Northern New Jersey-Long Island and the Greater Connecticut Ozone Nonattainment Areas

AGENCY: Environmental Protection Agency (EPA).

ACTION: Notice of adequacy.

SUMMARY: In this notice, EPA is notifying the public that EPA has found that the 2007 motor vehicle emissions budgets in the June 17, 2003 Connecticut State Implementation Plan (SIP) revision are adequate for conformity purposes. The submittal included MOBILE6.2 motor vehicle emissions budgets for 2007 for the Connecticut portion of the New York-Northern New Jersey-Long Island ozone nonattainment area and the Greater Connecticut ozone nonattainment area. On March 2, 1999, the DC Circuit Court ruled that budgets in submitted state implementation plans cannot be used for conformity determinations until EPA has affirmatively found them adequate. As a result of our finding, the Connecticut portion of the New York-Northern New Jersey-Long Island ozone nonattainment area and the Greater Connecticut ozone nonattainment area can use the MOBILE6.2 motor vehicle emissions budgets from the submitted plan for future conformity determinations.

DATES: These budgets are effective February 4, 2004.

FOR FURTHER INFORMATION CONTACT: Donald O. Cooke, Environmental Scientist, Air Quality Unit, U.S. Environmental Protection Agency, EPA New England Regional Office, One Congress Street, Suite 1100 (CAQ), Boston, MA 02114-2023, (617) 918-1668, cooke.donald@epa.gov.

SUPPLEMENTARY INFORMATION: Today's notice is simply an announcement of a finding that we have already made. EPA New England sent a letter to Connecticut Department of Environmental Protection on January 6, 2004 stating that the 2007 MOBILE6.2 motor vehicle emissions budgets in the June 17, 2003 SIP are adequate. This finding will also be announced on EPA's conformity Web site: http://www.epa.gov/otaq/transp/conform/adequacy.htm (once there, click on “What SIP submissions has EPA already found adequate or inadequate?”).

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in a May 14, 1999 memorandum entitled “Conformity Guidance on Implementation of March 2, 1999 Conformity Court Decision.” Additional guidance on EPA's adequacy process was published in a June 30, 2003 Federal Register notice of proposed rulemaking, “Transportation Conformity Rule Amendments: Response to Court Decision and Additional Rule Changes'' (68 FR 38973). We followed this guidance in making our adequacy determination.

The MOBILE6.2 motor vehicle emission budgets for 2007 are as follows: 16.4 tons per summer day (tpsd) for volatile organic compounds (VOC) and 29.7 tpsd for nitrogen oxides (NOX) in the Connecticut portion of the New York-Northern New Jersey-Long Island severe ozone nonattainment area, and 51.9 tpsd for VOC and 98.4 tpsd for NOX in the Greater Connecticut serious ozone nonattainment area.

Authority: 42 U.S.C. 7401-7671 q.

Dated: January 8, 2004.
Robert W. Varney,
Regional Administrator, EPA New England.

[FR Doc. 04-1109 Filed 1-16-04; 8:45 am]

BILLING CODE 6560-50-P